DEPARTMENT OF THE INTERIOR

Bureau of Land Management

[LLCOS09000-L16100000-DR0000-18X]

Notice of Resource Advisory Council Meetings for the Dominguez-Escalante National Conservation Area Advisory Council, Colorado

AGENCY: Bureau of Land Management, Interior.

ACTION: Notice of public meetings.

SUMMARY: In accordance with the Federal Land Policy and Management Act of 1976 and the Federal Advisory Committee Act of 1972, the U.S. Department of the Interior, Bureau of Land Management (BLM) Dominguez-Escalante National Conservation Area (NCA) Advisory Council (Council) will meet as indicated below.

DATES: The meetings will be held on December 20, 2017, from 3:00 p.m. to 6:00 p.m. and January 8, 2018, from 3:00 p.m. to 5:00 p.m. Any adjustments to these meetings will be advertised on the Dominguez-Escalante NCA Resource Management Plan (RMP) Web site: http://1.usa.gov/1qKkMVi.

ADDRESSES: The meetings will be held on December 20, 2017, at the Mesa County Central Services Building, 200 S. Spruce St., Room 40, Grand Junction, CO 81501 and on January 8, 2018, at the Bill Heddles Recreation Center, 530 Gunnison River Drive, Delta, CO 81416.

FOR FURTHER INFORMATION CONTACT: Collin Ewing, Advisory Council Designated Federal Official, 2815 H Road, Grand Junction, CO 81506. Phone: (970) 244-3049. Email: cewing@blm.gov. Persons who use a telecommunications device for the deaf may call the Federal Relay Service (FRS) at 1-800-877-8339 to contact the above individual during normal business hours. The FRS is available 24 hours a day, seven days a week, to leave a message or question with the above individual. You will receive a reply during normal business hours.

SUPPLEMENTARY INFORMATION: The 10-member Council advises the Secretary of the Interior, through the BLM, on a variety of planning and management issues associated with the resource management plan (RMP) process for the Dominguez-Escalante NCA and Dominguez Canyon Wilderness. Topics of discussion during the meeting may include presentations from BLM staff on implementation of the approved RMP and travel management plan.

These meetings are open to the public. At the December 20, 2017, meeting there will be public comment periods from 4:15 p.m. to 4:30 p.m. and from 5:30 p.m. to 5:45 p.m. At the January 8, 2018, meeting there will be a public comment period from 4:00 p.m. to 4:15 p.m. The public may present written comments to the Council at the meeting. Before including your address, phone number, email address, or other personal identifying information in your comment, you should be aware that your entire comment—including your personal identifying information—may be made publicly available at any time. While you can ask us in your comment to withhold your personal identifying information from public review, we cannot guarantee that we will be able to do so.

Depending on the number of persons wishing to comment and time available, the time for individual oral comments may be limited at the discretion of the chair.

Gregory P. Shoop,
Acting BLM Colorado State Director.

[FR Doc. 2017-26396 Filed 12-6-17; 8:45 am]

BILLING CODE 4310-JB-P